DEPARTMENT OF COMMERCE

International Trade Administration

[C-357-821]

Biodiesel From Argentina: Rescission of Countervailing Duty Administrative Review; 2017-2018

AGENCY: Enforcement and Compliance, International Trade Administration, Department of Commerce.

SUMMARY: The Department of Commerce (Commerce) is rescinding the administrative review of the countervailing duty (CVD) order on biodiesel from Argentina for the period August 28, 2017 through December 31, 2018.

DATES: Applicable October 8, 2019.

FOR FURTHER INFORMATION CONTACT: Thomas Dunne, AD/CVD Operations, Office VII, Enforcement and Compliance, International Trade Administration, U.S. Department of Commerce, 1401 Constitution Avenue NW, Washington, DC 20230; telephone: (202) 482-2328.

SUPPLEMENTARY INFORMATION:

Background

On February 8, 2019, Commerce published a notice of opportunity to request an administrative review of CVD order on biodiesel from Argentina for the period August 28, 2017 through December 31, 2018.¹ On February 28, 2019, the petitioner ² filed a timely request for review of 18 exporters and importers, in accordance with section 751(a) of the Tariff Act of 1930, as amended (the Act), and 19 CFR 351.213(b).³ Pursuant to this request, and in accordance with section 751(a) of the Act and 19 CFR 351.221(c)(1)(i), we initiated an administrative review of the order.⁴ On June 27, 2019, the petitioner filed a timely withdrawal of request for the administrative review with respect to all entities for which it had requested a review.⁵

¹ See Antidumping or Countervailing Duty Order, Finding, or Suspended Investigation; Opportunity to Request Administrative Review, 84 FR 2816 (February 8, 2019).

² The petitioner is the National Biodiesel Board Fair Trade Coalition, which includes the National Biodiesel Board; American GreenFuels, LLC; Archer Daniels Midland Company; Ag Processing Inc a cooperative; Crimson Renewable Energy LP; High Plains Bioenergy; Integrity Biofuels, LLC; Iowa Renewable Energy, LLC; Lake Erie Biofuels dba HERO BX; Minnesota Soybean Processors; New Leaf Biofuel, LLC; Newport Biodiesel, LLC; Renewable Biofuels, LLC; Renewable Energy Group, Inc.; Western Dubuque Biodiesel, LLC; Western Iowa Energy, LLC; and World Management Group LLC dba World Energy.

³ See Petitioner's Letter, “Biodiesel from Argentina: Request for Administrative Review of Countervailing Duty Order,” dated February 28, 2019.

⁴ See Initiation of Antidumping and Countervailing Duty Administrative Reviews, 84 FR 12200 (April 1, 2019).

⁵ See Petitioner's Letter, “Biodiesel from Argentina: Withdrawal of Request for Administrative Review of Countervailing Duty Order,” dated June 27, 2019.

Rescission of Review

Pursuant to 19 CFR 351.213(d)(1), Commerce will rescind an administrative review, in whole or in part, if the party that requested the review withdraws the request within 90 days of the date of publication of the notice of initiation of the requested review. As noted above, the petitioner, who was the only party to file a request for review, withdrew its request by the 90-day deadline. Accordingly, we are rescinding the administrative review of the CVD order on biodiesel from Argentina for the period August 28, 2017 through December 31, 2018, in its entirety.

Assessment

Commerce will instruct U.S. Customs and Border Protection (CBP) to assess CVD duties on all appropriate entries of biodiesel from Argentina. CVD duties shall be assessed at rates equal to the cash deposit of estimated CVD duties required at the time of entry, or withdrawal from warehouse, for consumption, in accordance with 19 CFR 351.212(c)(1)(i). Commerce intends to issue appropriate assessment instructions to CBP 15 days after the date of publication of this notice in the Federal Register.

Notification to Importers

This notice serves as a reminder to importers of their responsibility under 19 CFR 351.402(f)(2) to file a certificate regarding the reimbursement of CVD duties prior to liquidation of the relevant entries during this review period. Failure to comply with this requirement could result in Commerce's presumption that reimbursement of CVD duties occurred and the subsequent assessment of doubled CVD duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: October 1, 2019.
James Maeder,
Deputy Assistant Secretary for Antidumping and Countervailing Duty Operations.

[FR Doc. 2019-21926 Filed 10-7-19; 8:45 am]

BILLING CODE 3510-DS-P